DEPARTMENT OF COMMERCE

Foreign-Trade Zones Board

[B-62-2019]

Foreign-Trade Zone (FTZ) 141—Rochester, New York; Notification of Proposed Production Activity; Eastman Kodak Company; (One-Time Use Cameras); Rochester, New York

Eastman Kodak Company (Eastman Kodak) submitted a notification of proposed production activity to the FTZ Board for its facility in Rochester, New York. The notification conforming to the requirements of the regulations of the FTZ Board (15 CFR 400.22) was received on September 26, 2019.

Eastman Kodak already has authority to produce printer cartridges and thermal media within FTZ 141. The current request would add a finished product and a foreign status component to the scope of authority. Pursuant to 15 CFR 400.14(b), additional FTZ authority would be limited to the specific foreign-status component and specific finished product described in the submitted notification (as described below) and subsequently authorized by the FTZ Board.

Production under FTZ procedures could exempt Eastman Kodak from customs duty payments on the foreign-status materials/components used in export production. On its domestic sales, for the foreign-status materials/components noted below and in the existing scope of authority, Eastman Kodak would be able to choose the duty rates during customs entry procedures that apply to underwater one-time use cameras (duty-free). Eastman Kodak would be able to avoid duty on foreign-status components which become scrap/waste. Customs duties also could possibly be deferred or reduced on foreign-status production equipment.

The component sourced from abroad is a non-flash one-time use camera (duty-free). The request indicates that one-time use cameras are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is November 20, 2019.

A copy of the notification will be available for public inspection in the “Reading Room” section of the Board's website, which is accessible via www.trade.gov/ftz.

For further information, contact Christopher Wedderburn at Chris.Wedderburn@trade.gov or (202) 482-1963.

Dated: October 7, 2019.
Andrew McGilvray,
Executive Secretary.

[FR Doc. 2019-22308 Filed 10-10-19; 8:45 am]

BILLING CODE 3510-DS-P